DEPARTMENT OF THE TREASURY

Internal Revenue Service

26 CFR Part 1

[REG-136984-12]

RIN 1545-BL21

Section 752 and Related Party Rules

Correction

In proposed rule document 2013-29420, appearing on pages 76092 through 76096 in the issue of Monday, December 16, 2013, make the following correction:

On page 76094, in the second column, on the tenth line, insert the following:

D. Special Rule Where Entity Structured To Avoid Related Person Status

Section 1.752-4(b)(2)(iv) provides special rules for when an entity is structured to avoid related person status. The proposed regulations do not propose any changes to these rules. However, as a result of other changes made to simplify the organization of § 1.752-4, the rules in § 1.752-4(b)(2)(iv) are now in § 1.752-4(b)(4) of the proposed regulations. In addition, the example in § 1.752-4(b)(2)(iv)(C) is now Example 5 under § 1.752-4(b)(5) of the proposed regulations.

[FR Doc. C1-2013-29420 Filed 5-22-14; 8:45 am]

BILLING CODE 1505-01-D